DEPARTMENT OF TRANSPORTATION

Federal Aviation Administration

14 CFR Part 39

[Docket No. 2000-NM-115-AD]

RIN 2120-AA64

Airworthiness Directives; Boeing Model 707-100, -100B, -300, and -E3A (Military Airplanes); 727-100 and -200; 737-200, -200C, -300, -400, and -500; 747SP and 747SR; 747-100B, -200B, -200C, -200F, -300, -400, and -400D; 757-200 and -200PF; and 767-200 and -300 Series Airplanes

AGENCY: Federal Aviation Administration, DOT.

ACTION: Notice of proposed rulemaking (NPRM).

SUMMARY: This document proposes the adoption of a new airworthiness directive (AD) that is applicable to certain Boeing Model 707-100, -100B, -300, and -E3A (military airplanes); 727-100 and -200; 737-200, -200C, -300, -400, and -500; 747SP and 747SR; 747-100B, -200B, -200C, -200F, -300, -400, and -400D; 757-200 and -200PF; and 767-200 and -300 series airplanes. This proposal would require inspection of the attachment of the shoulder restraint harness to the mounting bracket on certain observer and attendant seats to determine if a C-clip is used in the attachment, and corrective action, if necessary. This action is necessary to prevent detachment of the shoulder restraint harness of the attendant or observer seat from its mounting bracket during service, which could result in injury to the occupant of the seat. This action is intended to address the identified unsafe condition.

DATES: Comments must be received by August 13, 2001.

ADDRESSES: Submit comments in triplicate to the Federal Aviation Administration (FAA), Transport Airplane Directorate, ANM-114, Attention: Rules Docket No. 2000-NM-115-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-115-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Keith Ladderud, Aerospace Engineer, Airframe Branch, ANM-120S, FAA, Seattle Aircraft Certification Office, 1601 Lind Avenue, SW., Renton, Washington 98055-4056; telephone (425) 227-2780; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-115-AD.” The postcard will be date-stamped and returned to the commenter.

Availability of NPRMs

Any person may obtain a copy of this NPRM by submitting a request to the FAA, Transport Airplane Directorate, ANM-114, Attention: Rules Docket No. 2000-NM-115-AD, 1601 Lind Avenue, SW., Renton, Washington 98055-4056.

Discussion

The FAA has received reports that the shoulder restraint harness of the attendant or observer seat detached from the mounting bracket during service on two Boeing Model 737-300 series airplanes. In the reported incidents, the restraint harness was attached to the mounting bracket with a C-clip. Such detachment of the shoulder restraint harness from its mounting bracket during service, if not corrected, could result in injury to the occupant of the seat.

The shoulder restraint harness installations on the affected Model 737-300 series airplanes are identical to those on certain Boeing Model 707-100, -100B, -300, and -E3A (military airplanes); 727-100 and -200; 737-200, -200C, -400, and -500; 747SP and 747SR; 747-100B, -200B, -200C, -200F, -300, -400, and -400D; 757-200 and -200PF; and 767-200 and -300 series airplanes. Therefore, the shoulder restraint harnesses on all of these models may have a C-clip installed and thus be subject to the same unsafe condition.

Explanation of Relevant Service Information

The FAA has reviewed and approved Boeing Service Bulletins 3499, 727-25-0295, 737-25-1412, 747-25-3244, 757-25-0223, and 767-25-0288; all Revision 1; all dated May 17, 2001. These service bulletins describe procedures for a one-time inspection of the attachment of the shoulder restraint harness of certain attendant or observer seats to the mounting bracket to determine if a C-clip is used in the attachment. If the shoulder restraint harness is looped through the bracket and attached to itself with a C-clip, the service bulletins provide two alternatives for correcting this condition. One method instructs operators to attach the shoulder restraint harness directly to the mounting bracket by removing and discarding the C-clip, removing the mounting bracket, putting the mounting bracket through the loop of the shoulder harness, and attaching the mounting bracket in its original position. In lieu of removal of the C-clip, the service bulletins also describe an optional method that involves installation of a second C-clip with the clip's opening positioned in the opposite direction of the opening of the existing C-clip. Accomplishment of either of these actions given in the service bulletins is intended to adequately address the identified unsafe condition.

Explanation of Requirements of Proposed Rule

Since an unsafe condition has been identified that is likely to exist or develop on other products of this same type design, the proposed AD would require accomplishment of the actions specified in the applicable service bulletin described previously, except as discussed below.

Differences Between The Service Bulletins and This Proposed AD

Operators should note that, although the service bulletins recommend accomplishing the inspection “at the next scheduled maintenance period when manpower and equipment are available,” the FAA has determined that such an indefinite compliance time would not address the identified unsafe condition in a timely manner. In developing an appropriate compliance time for this AD, the FAA considered not only the manufacturer's recommendation, but the degree of urgency associated with addressing the subject unsafe condition, the average utilization of the affected fleet, and the time necessary to perform the proposed actions. In light of all of these factors, the FAA finds an 18-month compliance time for initiating the required actions to be warranted, in that it represents an appropriate interval of time allowable for affected airplanes to continue to operate without compromising safety.

In addition, the service bulletins do not identify the type of inspection that is involved in the procedures for inspecting the attachment of the shoulder restraint harness to determine if a C-clip is used. The FAA refers to this inspection in the proposed AD as a “general visual” inspection.

Cost Impact

The table below estimates the cost impact of the inspection that would be required by this proposed AD. The average labor rate is $60 per work hour.

Base model | Number of airplanes/worldwide | Number of airplanes/U.S. registry | Number of work hours (@ 0.25 work hour/seat) | Total cost per airplane | Total cost fleet
707 | 250 | 21 | 1 | $60 | $1,260
727 | 1,986 | 881 | 1 | 60 | 52,860
737 | 921 | 437 | 2 | 120 | 52,440
747 | 533 | 83 | 5 | 300 | 24,900
757 | 262 | 257 | 2 | 120 | 30,840
767 | 573 | 207 | 3 | 180 | 37,260

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2000-NM-115-AD.

Applicability: Airplanes as listed in the table below; certificated in any category.

Table 1.
Models and series | As listed in the following Boeing service bulletins
Model 707-100, -100B, -300, and -E3A (Military) | 3499, Revision 1, dated May 17, 2001
Model 727-100 and 727-200 | 727-25-0295, Revision 1, dated May 17, 2001
Model 737 -200, -200C, -300, -400, and -500 | 737-25-1412, Revision 1, dated May 17, 2001
Model 747SR, 747SP, and 747-100B, -200B, -200C, -200F, -300, -400, and -400D | 747-25-3244, Revision 1, dated May 17, 2001
Model 757-200 and 757-200PF | 757-25-0223, Revision 1, dated May 17, 2001
Model 767-200 and -300 | 767-25-0288, Revision 1, dated May 17, 2001

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent detachment of the shoulder restraint harness of the attendant or observer seat from its mounting bracket during service, which could result in injury to the occupant of the seat, accomplish the following:

Inspection and Corrective Action

(a) Within 18 months after the effective date of this AD, do a one-time general visual inspection of the attachment of the shoulder restraint harness of each observer or attendant seat to determine if a C-clip is used in the attachment. Do the inspection according to Boeing Service Bulletin 3499, 727-25-0295, 737-25-1412, 747-25-3244, 757-25-0223, or 767-25-0288; all Revision 1; all dated May 17, 2001; as applicable. If the shoulder harness is looped through the bracket and attached to itself with a C-clip, do paragraph (a)(1) or (a)(2) of this AD.

(1) Remove and discard the C-clip, and reattach the shoulder harness to the mounting bracket, according to the service bulletin.

Note 2: Removing and discarding the C-clip and reattaching the shoulder harness to the mounting bracket; according to Boeing Special Attention Service Bulletin 3499, 727-25-0295, 737-25-1412, 747-25-3244, 757-25-0233, or 767-25-0288; all dated April 27, 2000; as applicable; is acceptable for compliance with the requirements of paragraph (a)(1) of this AD.

(2) Install a second C-clip with the clip's opening positioned in the opposite direction of the opening of the existing C-clip, according to the optional method described in Steps 19 and 20 of Figure 1 or 2 of the applicable service bulletin.

Spares

(b) As of the effective date of this AD, do not attach the shoulder restraint harness of an observer or attendant seat on any airplane to the mounting bracket using a C-clip, unless the requirements of paragraph (a)(2) of this AD are done.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with §§ 21.197 and 21.199 of the Federal Aviation Regulations (14 CFR 21.197 and 21.199) to operate the airplane to a location where the requirements of this AD can be accomplished.

Issued in Renton, Washington, on June 20, 2001.
Kalene C. Yanamura,
Acting Manager, Transport Airplane Directorate, Aircraft Certification Service.

[FR Doc. 01-16055 Filed 6-26-01; 8:45 am]

BILLING CODE 4910-13-U